DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The ATSRAC will meet July 7 and 8, 2004, from 8:30 a.m. to 5 p.m.

ADDRESSES: On July 7, 2004, the FAA will hold the meeting at Aerospace Industries Association, 1000 Wilson Boulevard, Suite 1700, Arlington, Virginia 22209. On July 8, 2004, we will meet at the Department of Transportation, 400 7th Street, SW., Room 6244-48, Washington, DC 20590.

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: This notice announces a meeting of the Aging Transport Systems Rulemaking Advisory Committee. The FAA will hold the meeting at the locations listed under the ADDRESSES heading of this notice. The agenda topics for the meeting include—

• Status of tasks assigned to Harmonization Working Groups 11, 12, and 13 (68 FR 31741, May 28, 2003);

• Report on Electrical Wiring Interconnection Systems (EWIS) Inspection Tools;

• A Review of Minimum Equipment List (MEL) Results;

• How Master Minimum Equipment Lists (MMEL) are Approved;

• The FAA's Aging Airplane Program Review; and

• European Aging Systems Coordination Group (EASCG) Status.

The meeting is open to the public; however, attendance will be limited by the size of the meeting room. The FAA will make the following services available if you request them by June 21, 2004:

• Teleconferencing

• Sign and oral interpretation

• A listening device

Individuals using the teleconferencing service and calling from outside the Washington, DC metropolitan area will be responsible for paying long-distance charges. To arrange for any of these services, contact the person listed under the FOR FURTHER INFORMATION CONTACT heading of this notice.

The public may present written statements to the Committee by providing 20 copies to the Committee's Executive Director or by bringing the copies to the meeting. Public statements will be considered if time allows. You may contact the person whose name appears in the FOR FURTHER INFORMATION CONTACT heading of this notice for more information.

Issued in Washington, DC, on June 3, 2004.
Tony F. Fazio,
Director, Office of Rulemaking.

[FR Doc. 04-13297 Filed 6-10-04; 8:45 am]

BILLING CODE 4910-13-P